DEPARTMENT OF TRANSPORTATION

National Highway Traffic Safety Administration

[Docket No. NHTSA-2000-7436]

Decision That Certain Nonconforming Motor Vehicles Are Eligible for Importation

AGENCY: National Highway Traffic Safety Administration (NHTSA), DOT.

ACTION: Notice of decision by NHTSA that certain nonconforming motor vehicles are eligible for importation.

SUMMARY: This document announces decisions by NHTSA that certain motor vehicles not originally manufactured to comply with all applicable Federal motor vehicle safety standards are eligible for importation into the United States because they are substantially similar to vehicles originally manufactured for importation into and/or sale in the United States and certified by their manufacturers as complying with the safety standards, and they are capable of being readily altered to conform to the standards.

DATES: These decisions are effective as of June 22, 2000.

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA hereby decides that each motor vehicle listed in Annex A to this notice, which was not originally manufactured to comply with all applicable Federal motor vehicle safety standards, is substantially similar to a motor vehicle manufactured for importation into and/or sale in the United States, and certified under 49 U.S.C. 30115, as specified in Annex A, and is capable of being readily altered to conform to all applicable Federal motor vehicle safety standards.

Authority: 49 U.S.C. 30141(a)(1)(A) and (b)(1); 49 CFR 593.8; delegations of authority at 49 CFR 1.50 and 501.8.

Issued on: June 19, 2000.
Marilynne Jacobs,
Director, Office of Vehicle Safety, Compliance.

Annex A—Nonconforming Motor Vehicles Decided To Be Eligible for Importation

1. Docket No. NHTSA-99-6353

Nonconforming Vehicle: 1992-1999 Honda Accord

Substantially similar U.S.-certified vehicle: 1992-1999 Honda Accord

Notice of Petition published at: 64 FR 56833 (October 21, 1999)

Vehicle Eligibility Number: VSP-319

2. Docket No. NHTSA-99-6352

Nonconforming Vehicles: 1987-1995 Nissan Pathfinder

Substantially similar U.S.-certified vehicles: 1987-1995 Nissan Pathfinder

Notice of Petition published at: 64 FR 56832 (October 21, 1999)

Vehicle Eligibility Number: VSP-316

3. Docket No. NHTSA-99-6039

Nonconforming Vehicles: 1994-1999 Mercedes-Benz C Class

Substantially similar U.S.-certified vehicles: 1994-1999 Mercedes-Benz C Class

Notice of Petition published at: 64 FR 42758 (August 5, 1999)

Vehicle Eligibility Number: VSP-331

4. Docket No. NHTSA-99-6038

Nonconforming Vehicles: 1998-1999 Audi A6

Substantially similar U.S.-certified vehicles: 1998-1999 Audi A6

Notice of Petition published at: 64 FR 42756 (August 5, 1999)

Vehicle Eligibility Number: VSP-332

5. Docket No. NHTSA-99-6351

Nonconforming Vehicles: 1994-1999 Mercedes-Benz E320 Station Wagons

Substantially similar U.S.-certified vehicles: 1994-1999 Mercedes-Benz E320 Station Wagons

Notice of Petition published at: 64 FR 56569 (October 20, 1999)

Vehicle Eligibility Number: VSP-318

6. Docket No. NHTSA-99-6062

Nonconforming Vehicle: 1996 Toyota RAV4

Substantially similar U.S.-certified vehicle: 1996 Toyota RAV4

Notice of Petition published at: 64 FR 43812 (August 11, 1999)

Vehicle Eligibility Number: VSP-328

7. Docket No. NHTSA-99-6081

Nonconforming Vehicles: 1999-2000 Ferrari Modena 360

Substantially similar U.S.-certified vehicles: 1999-2000 Ferrari Modena 360

Notice of Petition published at: 64 FR 44262 (August 13, 1999)

Vehicle Eligibility Number: VSP-327

8. Docket No. NHTSA-99-6350

Nonconforming Vehicles: 1978-1980 Toyota Land Cruiser

Substantially similar U.S.-certified vehicles: 1978-1980 Toyota Land Cruiser

Notice of Petition published at: 64 FR 56564 (October 20, 1999)

Vehicle Eligibility Number: VSP-320

9. Docket No. NHTSA-99-6340

Nonconforming Vehicles: 1991-1992 Toyota Previa

Substantially similar U.S.-certified vehicles: 1991-1992 Toyota Previa

Notice of Petition published at: 64 FR 56380 (October 19, 1999)

Vehicle Eligibility Number: VSP-326

10. Docket No. NHTSA-99-6339

Nonconforming Vehicles: 1990-1992 Audi 100

Substantially similar U.S.-certified vehicles: 1990-1992 Audi 100

Notice of Petition published at: 64 FR 56381 (October 19, 1999)

Vehicle Eligibility Number: VSP-317

11. Docket No. NHTSA-99-6384

Nonconforming Vehicles: 1994 Eagle Vision

Substantially similar U.S.-certified vehicles: 1994 Eagle Vision

Notice of Petition published at: 64 FR 58126 (October 28, 1999)

Vehicle Eligibility Number: VSP-323

12. Docket No. NHTSA-99-6349

Nonconforming Vehicles: 1993-1996 Mercedes-Benz SL Series

Substantially similar U.S.-certified vehicles: 1993-1996 Mercedes-Benz SL Series

Notice of Petition published at: 64 FR 56568 (October 20, 1999)

Vehicle Eligibility Number: VSP-329

13. Docket No. NHTSA-99-6348

Nonconforming Vehicles: 1998-1999 Mercedes-Benz S Class

Substantially similar U.S.-certified vehicles: 1998-1999 Mercedes-Benz S Class

Notice of Petition published at: 64 FR 56566 (October 20, 1999)

Vehicle Eligibility Number: VSP-325

14. Docket No. NHTSA-99-6601

Nonconforming Vehicles: 1990-1991 Toyota MR2

Substantially similar U.S.-certified vehicles: 1990-1991 Toyota MR2

Notice of Petition published at: 64 FR 69585 (December 13, 1999)

Vehicle Eligibility Number: VSP-324

15. Docket No. NHTSA-99-6347

Nonconforming Vehicles: 2000 Harley Davidson FX, FL, and XL motorcycles

Substantially similar U.S.-certified vehicles: 2000 Harley Davidson FX, FL, and XL motorcycles

Notice of Petition published at: 64 FR 56566 (October 20, 1999)

Vehicle Eligibility Number: VSP-321

16. Docket No. NHTSA-99-6383

Nonconforming Vehicles: 1998 Jaguar XK-8

Substantially similar U.S.-certified vehicles: 1998 Jaguar XK-8

Notice of Petition published at: 64 FR 58125 (October 28, 1999)

Vehicle Eligibility Number: VSP-330

17. Docket No. NHTSA-99-6524

Nonconforming Vehicles: 1996 Ford Escort (Nicaragua)

Substantially similar U.S.-certified vehicles: 1996 Ford Escort

Notice of Petition published at: 64 FR 67601 (December 2, 1999)

Vehicle Eligibility Number: VSP-322

18. Docket No. NHTSA-99-6668

Nonconforming Vehicles; 1991 Mercedes-Benz 560SEC

Substantially similar U.S.-certified vehicles: 1991 Mercedes-Benz 560SEC

Notice of Petition published at: 64 FR 73118 (December 29, 1999)

Vehicle Eligibility Number: VSP-333

19. Docket No. NHTSA-99-6525

Nonconforming Vehicles: 1994 Saab 9000

Substantially similar U.S.-certified vehicles: 1994 Saab 9000

Notice of Petition published at: 64 FR 69069 (December 9, 1999)

Vehicle Eligibility Number: VSP-334

20. Docket No. NHTSA-99-6526

Nonconforming Vehicles: 1998-200V Volvo S70

Substantially similar U.S.-certified vehicles: 1998-2000 Volvo S70

Notice of Petition published at: 64 FR 67600 (December 2, 1999)

Vehicle Eligibility Number: VSP-335

21. Docket No. NHTSA-99-6820

Nonconforming Vehicles: 1997-2000 Audi A8

Substantially similar U.S.-certified vehicles: 1997-2000 Audi A8

Notice of Petition published at: 65 FR 5019 (February 2, 2000)

Vehicle Eligibility Number: VSP-337

22. Docket No. NHTSA-2000-6941

Nonconforming Vehicles: 1998 Jeep Wrangler

Substantially similar U.S.-certified vehicles: 1998 Jeep Wrangler

Notice of Petition published at: 65 FR 8759 (February 22, 2000)

Vehicle Eligibility Number: VSP-341

23. Docket No. NHTSA-2000-7002

Nonconforming Vehicles: 1976-1985 Rolls Royce Corniche

Substantially similar U.S.-certified vehicles: 1976-1985 Rolls Royce Corniche

Notice of Petition published at: 65 FR 19040 (April 10, 2000)

Vehicle Eligibility Number: VSP-339

24. Docket No. NHTSA-2000-7112

Nonconforming Vehicles: 1987-1989 Bentley

Substantially similar U.S.-certified vehicles: 1987-1989 Bentley

Notice of Petition published at: 65 FR 19428 (April 11, 2000)

Vehicle Eligibility Number: VSP-340

[FR Doc. 00-15851 Filed 6-21-00; 8:45 am]

BILLING CODE 4910-59-P